DEPARTMENT OF THE INTERIOR

National Park Service

[NPS-MWR-SLBE-34899; PS.SMWLA0058.00.1]

Minor Boundary Revision at Sleeping Bear Dunes National Lakeshore

AGENCY: National Park Service, Interior.

ACTION: Notification of boundary revision.

SUMMARY: Notice is hereby given that the boundary of Sleeping Bear Dunes National Lakeshore (National Lakeshore) is modified to include Tracts 40-177 and 40-178, containing 8.66 acres, more or less, located in Leelanau County, Michigan, adjacent to the National Lakeshore boundary. Subsequent to the boundary revision, the National Park Service (NPS) will acquire the properties from Leelanau Conservancy, a non-profit organization.

DATES: The effective date of this boundary revision is May 23, 2023.

ADDRESSES: The map depicting the boundary revision is available for inspection at the following locations: National Park Service, Interior Regions 3, 4, 5, Land Resources Program, 601 Riverfront Drive, Omaha, Nebraska 68102 and National Park Service, Department of the Interior, 1849 C Street NW, Washington, DC 20240.

FOR FURTHER INFORMATION CONTACT: Chief, Land Resources Program Michael Bockman, National Park Service, Interior Regions 3, 4, 5, 601 Riverfront Drive, Omaha, Nebraska 68102, telephone (402) 661-1780.

SUPPLEMENTARY INFORMATION: Notice is hereby given that, pursuant to 54 U.S.C. 100506(c), the boundary of Sleeping Bear Dunes National Lakeshore is modified to include two adjacent tracts containing approximately 8.66 acres of land. The boundary revision is depicted on Map No. 634/178243, November 2022.

54 U.S.C. 100506(c)(l)(B) provides that, after notifying the House Committee on Natural Resources and the Senate Committee on Energy and Natural Resources, the Secretary of the Interior is authorized to make this boundary revision upon publication of Notice in the Federal Register. The Committees have been notified of this boundary revision. This boundary revision and subsequent acquisition will ensure preservation and protection of the scenic character and viewshed of the National Lakeshore and improve visitor recreational access.

Herbert C. Frost,
Regional Director, Interior Regions 3, 4, 5.

[FR Doc. 2023-10952 Filed 5-22-23; 8:45 am]

BILLING CODE 4312-52-P